DEPARTMENT OF TRANSPORTATION

Office of the Secretary

[Docket No. DOT-OST-2019-0179]

Notice of Request for Comments: Ensuring American Leadership in Automated Vehicle Technologies: Automated Vehicles 4.0 (AV 4.0)

AGENCY: Office of the Secretary (OST), U.S. Department of Transportation (USDOT).

ACTION: Notice of request for comments.

SUMMARY: The USDOT and the White House Office of Science and Technology Policy (OSTP) invites public comment on the document, Ensuring American Leadership in Automated Vehicle Technologies: Automated Vehicles 4.0 (AV 4.0). This document builds upon Preparing for the Future of Transportation: Automated Vehicles 3.0 (AV 3.0) and expands the scope to 38 relevant United States Government (USG) components which have direct or tangential equities in safe development and integration of AV technologies.

DATES: You should submit your comments prior to April 2nd, 2020.

Written Comments: Comments should refer to the docket number above and be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to http://www.regulations.gov, including any personal information provided.

Privacy Act: Anyone is able to search the electronic form of all comments received into any of our dockets by the name of the individual submitting the comment (or signing the comment, if submitted on behalf of an association, business, labor union, etc.). You may review USDOT's complete Privacy Act Statement in the Federal Register published on April 11, 2000 (65 FR 19477-78) or at https://www.transportation.gov/privacy.

Docket: For access to the docket to read background documents or comments received, go to http://www.regulations.gov or to the street address listed above. Follow the online instructions for accessing the dockets.

FOR FURTHER INFORMATION CONTACT: Please contact us at automation@dot.gov or Sujeesh Kurup (202-604-9102, SujeeshKurup.SudarsanaKurup@ostp.eop.gov).

SUPPLEMENTARY INFORMATION: AV 4.0 builds on AV 3.0 by expanding the scope to 38 Federal departments, independent agencies, commissions, and Executive Offices of the President. AV 4.0 is structured around three key areas: (1) USG AV technologies principles, (2) Administration Efforts Supporting AV Technology Growth and Leadership, and (3) USG Activities and Opportunities for Collaboration. The AV 4.0 document is available at: www.transportation.gov/av/4.

The USDOT and OSTP sees AV 4.0 as a method to ensure a consistent USG approach to AV technologies and to ensure that the United States continues to lead AV technologies' research, development, and integration. The USDOT and OSTP are seeking public comments on the document, Ensuring American Leadership in Automated Vehicle Technologies: Automated Vehicles 4.0.

Public Participation

How do I prepare and submit comments?

Your comments must be written and in English. To ensure that your comments are filed correctly in the docket, please include the docket number of this document in your comments.

Please submit one copy (two copies if submitting by mail or hand delivery) of your comments, including the attachments, to the docket following the instructions given above under ADDRESSES. Please note, if you are submitting comments electronically as a PDF (Adobe) file, we ask that the documents submitted be scanned using an Optical Character Recognition (OCR) process, thus allowing the agency to search and copy certain portions of your submissions.

How do I submit confidential business information?

Any submissions containing Confidential Information must be delivered to OST in the following manner:

• Submitted in a sealed envelope marked “confidential treatment requested”;

• Accompanied by an index listing the document(s) or information that the submitter would like the Department to withhold. The index should include information such as numbers used to identify the relevant document(s) or information, document title and description, and relevant page numbers and/or section numbers within a document; and

• Submitted with a statement explaining the submitter's grounds for objecting to disclosure of the information to the public.

OST also requests that submitters of Confidential Information include a non-confidential version (either redacted or summarized) of those confidential submissions in the public docket. In the event that the submitter cannot provide a non-confidential version of its submission, OST requests that the submitter post a notice in the docket stating that it has provided OST with Confidential Information. Should a submitter fail to docket either a non-confidential version of its submission or to post a notice that Confidential Information has been provided, we will note the receipt of the submission on the docket, with the submitter's organization or name (to the degree permitted by law) and the date of submission.

Will the agency consider late comments?

The USDOT will consider all comments received before the close of business on the comment closing date indicated above under DATES. To the extent possible, the agency will also consider comments received after that date. Given that we intend for the policy document to be a living document and to be developed in an iterative fashion, subsequent opportunities to comment will also be provided periodically.

How can I read the comments submitted by other people?

You may read the comments received at the address given above under COMMENTS. The hours of the docket are indicated above in the same location. You may also see the comments on the internet, identified by the docket number at the heading of this notice, at http://www.regulations.gov.

Issued in Washington, DC on January 30, 2020, under authority delegated at 49 U.S.C. 1.25a.
Finch Fulton,
Deputy Assistant Secretary for Transportation Policy.

[FR Doc. 2020-02332 Filed 2-5-20; 8:45 am]

BILLING CODE 4910-9X-P